DEPARTMENT OF HEALTH AND HUMAN SERVICES

Centers for Disease Control and Prevention

[Docket Number CDC-2022-0066, NIOSH-346]

Draft National Institute for Occupational Safety and Health (NIOSH) Healthcare Personal Protective Technology (PPT) Targets for 2020 to 2030; Request for Comment

AGENCY: Centers for Disease Control and Prevention (CDC), Department of Health and Human Services (HHS).

ACTION: Request for information and comment.

SUMMARY: The National Institute for Occupational Safety and Health (NIOSH) in the Centers for Disease Control and Prevention (CDC), an Operating Division of the Department of Health and Human Services (HHS), announces the availability of a draft document entitled DRAFT NIOSH Healthcare Personal Protective Technology (PPT) Targets for 2020 to 2030 (Draft PPT Targets) now available for public comment.

DATES: Electronic or written comments must be received by July 15, 2022.

ADDRESSES: You may submit comments, identified by CDC-2022-0066 and docket number NIOSH-346, by either of the following methods:

• Federal eRulemaking Portal: https://www.regulations.gov. Follow the instructions for submitting comments.

• Mail: National Institute for Occupational Safety and Health, NIOSH Docket Office, 1090 Tusculum Avenue, MS C-34, Cincinnati, Ohio 45226-1998.

Instructions: All information received in response to this notice must include the agency name and docket number (CDC-2022-0066; NIOSH-346). All relevant comments, including any personal information provided, will be posted without change to https://www.regulations.gov. Do not submit comments by email. CDC does not accept comments by email. For access to the docket to read background documents or comments received, go to https://www.regulations.gov.

FOR FURTHER INFORMATION CONTACT: Dr. Susan M. Moore, NIOSH NPPTL, Building 141, 626 Cochrans Mill Road, Pittsburgh, PA 15236; Telephone: 412-386-6111.

SUPPLEMENTARY INFORMATION: Reflecting on the nation's past decade of experiences with infectious diseases (e.g., influenza, Ebola virus disease, and coronavirus disease) and non-infectious hazards (e.g., antineoplastic and other hazardous drugs), the National Institute for Occupational Safety and Health (NIOSH) recognizes a growing need for its unique capabilities related to PPT research, development, performance standards and test methods, and conformity assessment. In response to this growing need, NIOSH established DRAFT Healthcare PPT Targets for 2020 to 2030.

Background: The health and welfare of 18 million U.S. healthcare personnel (HCP) is an important priority for NIOSH and CDC. NIOSH's mission is to protect the U.S. workforce from injury and illness via scientific research, practice interventions, and collaborative partnerships. While infection prevention and control efforts favor the role of engineering and administrative measures over PPT, PPT plays an important role in preventing transmission of infectious diseases. PPT includes personal protective equipment (PPE) worn by individuals (e.g., respirators; protective clothing; gloves, eye, fall and hearing protection; and hard hats) and technical methods (e.g., fit testing methods), processes, techniques, tools, and materials that support the development and use of PPE worn by individuals.

In 2006, the NIOSH Personal Protective Technology Laboratory (NPPTL) began an initiative to develop and execute a comprehensive strategic approach to HCP protection. The resulting NIOSH Healthcare PPT Action Plan focused resources on and raised awareness about the PPT needs of HCP during a potential influenza pandemic. NIOSH undertook a research agenda to advance clinical practices, drive performance standards development, and inform regulation. In addition, NIOSH carried out an information dissemination program to apprise healthcare organizations and HCP about the roles and importance of PPE in protecting themselves. The Action Plan has been updated several times since its inception. The most recent plan (2013-18) focused on PPE used to reduce exposures to viral respiratory pathogens, including the influenza virus.

Reflecting on the nation's past decade of experiences with infectious diseases (e.g., influenza, Ebola, and coronavirus) and non-infectious hazards (e.g., antineoplastic and other hazardous drugs), NIOSH recognizes a growing need for its unique capabilities related to PPT research, development, performance standards and test methods, and conformity assessment. To respond to this growing need, NIOSH developed DRAFT NIOSH Healthcare PPT Targets for 2020 to 2030 (Draft PPT Targets), which have informed NIOSH's PPT efforts since 2020. The public health response to the COVID-19 pandemic has delayed NIOSH's efforts to obtain public input on the PPT Targets; NIOSH will finalize the PPT Targets after receipt of the requested public input. To view the Draft PPT Targets, please visit https://www.cdc.gov/niosh/npptl/hospresptoolkit/DraftHealthcarePPT.html.

Information Needs: Additional data and information are needed to assist with finalizing the Draft PPT Targets. Interested persons or organizations are invited to submit applicable materials, including published and unpublished reports and research findings, that NIOSH may consider to:

• Align its activities with other national efforts related to PPT;

• Coordinate and prioritize NIOSH targets with complementary efforts by other entities;

• Explore opportunities to collaborate with other entities;

• Determine the level of effort needed to address specific targets;

• Explore additional or alternative technical approaches; and

• Explore additional knowledge gaps requiring support until 2030.

Disclaimer: This notice is intended for planning purposes; it does not constitute a formal announcement for comprehensive applications. In accordance with Federal Acquisition Regulation 48 CFR 15.201(e), responses to this notice are not offers and cannot be accepted by the Government to form a binding award. NIOSH will not provide reimbursement for costs incurred in commenting on this notice. NIOSH will not respond to individual public comments or publish publicly a compendium of responses. An informational submission in response to this notice does not create any commitment by or on behalf of CDC or HHS to develop or pursue any program or ideas discussed.

John J. Howard,
Director, National Institute for Occupational Safety and Health, Centers for Disease Control and Prevention.

[FR Doc. 2022-10413 Filed 5-13-22; 8:45 am]

BILLING CODE 4163-18-P